DEPARTMENT OF HOUSING AND URBAN DEVELOPMENT

[Docket No. FR-5168-D-08]

Revocation and Redelegation of Administrative Authority for Title I, Section 109 of the Housing and Community Development Act of 1974

AGENCY: Office of the Assistant Secretary for Fair Housing and Equal Opportunity, HUD.

ACTION: Notice of revocation and redelegation of authority.

SUMMARY: The Assistant Secretary for Fair Housing and Equal Opportunity (FHEO) revokes all prior redelegations of authority from the Assistant Secretary for FHEO under Title I, Section 109 of the Housing and Community Development Act of 1974, and redelegates certain authority, to FHEO headquarters and Region staff.

DATES: Effective Date: May 31, 2007.

FOR FURTHER INFORMATION CONTACT: Bryan Greene, Deputy Assistant Secretary for Enforcement and Programs, Office of Fair Housing and Equal Opportunity, Department of Housing and Urban Development, 451 Seventh Street, SW., Room 5204, Washington, DC 20410-0001, telephone (202) 619-8046 (this is not a toll-free number). Hearing- and speech-impaired individuals may access this number through TTY by calling the toll-free Federal Information Relay Service at (800) 877-8339.

SUPPLEMENTARY INFORMATION: By previous delegation, the Secretary of HUD delegated to the Assistant Secretary of FHEO, with certain exceptions, the authority to act under Title I, Section 109 of the Housing and Community Development Act of 1974 (42 U.S.C. 5309). (See 41 FR 15359, April 12, 1976.) The provisions of Section 109 are implemented through HUD's regulations in 24 CFR part 6. (See also 24 CFR 6.3, in which the “Responsible Official” is defined as the Assistant Secretary for FHEO (or the Assistant Secretary's designee)).

On August 4, 2003, the Assistant Secretary for Fair Housing and Equal Opportunity (FHEO) redelegated the Assistant Secretary's authority under Section 109, as provided in 24 CFR 6.10 and 6.11, to the General Deputy Assistant Secretary of FHEO. The General Deputy Assistant Secretary for FHEO further redelegated these authorities to the Deputy Assistant Secretary for Enforcement and Programs, Director of the Office of Enforcement, and to the FHEO Hub Directors. Since then, FHEO has created an Office of Systemic Investigations. Further, the FHEO Hub Directors' titles have been changed to FHEO Region Directors.

Accordingly, in this redelegation, the Assistant Secretary for FHEO revokes the August 4, 2003 and all other previous delegations and retains and redelegates the authority to act as the “Responsible Official” under Title I Section 109 of the Housing and Community Development Act of 1974, and its implementing regulations subject to certain exceptions.

Section A. Authority Redelegated

The Assistant Secretary for FHEO retains and, with noted exception, redelegates to the General Deputy Assistant Secretary for FHEO the authority to act as the “Responsible Official” under Section 109, only as provided in 24 CFR 6.10 and 6.11. This includes the authority to further redelegate. The General Deputy Assistant Secretary for FHEO retains and, with noted exception, further redelegates these authorities to the Deputy Assistant Secretary for Enforcement and Programs, Director of the Office of Enforcement, FHEO Region Directors and the Director of the Office of Systemic Investigations.

Section B. Authority Excepted

The authority redelegated by the Assistant Secretary in this notice does not include the authority to issue or to waive regulations. The authority delegated by the General Deputy Assistant Secretary does not include the authority to further redelegate. As to the FHEO Region Directors, the authority delegated additionally does not include the authority under 24 CFR 6.11(c) to review letters of finding.

Section C. Delegations of Authority Revoked

All prior redelegations of the authority within the Office of the Assistant Secretary for FHEO under Section 109 of the Housing and Community Development Act of 1974 are revoked.

Authority: Section 7(d), Department of Housing and Urban Development Act, 42 U.S.C. 3535(d).

Dated: May 31, 2007.
Kim Kendrick,
Assistant Secretary for Fair Housing and Equal Opportunity.
Cheryl Ziegler,
General Deputy Assistant Secretary for Fair Housing and Equal Opportunity.

Editorial Note: This document was received at the Office of the Federal Register on December 12, 2007.

[FR Doc. E7-24339 Filed 12-14-07; 8:45 am]

BILLING CODE 4210-67-P